DEPARTMENT OF TRANSPORTATION

Federal Transit Administration

Intent To Prepare an Environmental Impact Statement for the Lake Oswego to Portland Transit Project in the Portland, OR Metropolitan Area

AGENCY: Federal Transit Administration (FTA), U.S. Department of Transportation (DOT).

ACTION: Notice of Intent to prepare an environmental impact statement.

SUMMARY: The Federal Transit Administration (FTA) and Metro (the regional government that serves the 25 cities and three counties of the Portland, Oregon metropolitan area), in cooperation with the cities of Lake Oswego and Portland, Clackamas and Multnomah counties; Oregon Department of Transportation (ODOT) and the Tri-County Metropolitan Transportation District of Oregon (TriMet), will prepare an Environmental Impact Statement (EIS) to evaluate the benefits and impacts of proposed transit improvements. Three alternatives are proposed: (1) A No-Build alternative that includes everything in the Metro Regional Transportation Plan, not including the proposed project, and with a continuation of present day bus service policies in place of the project; (2) a streetcar alternative that would extend the existing Portland Streetcar system approximately 1.2 miles to a short terminus in Johns Landing, or 5.7 miles to a terminus in downtown Lake Oswego, with connecting bus service in the corridor, and (3) an enhanced bus alternative with capital improvements between downtown Portland and Lake Oswego and connecting bus service to the rest of the corridor. FTA and Metro will prepare the EIS in accordance with FTA regulations (23 CFR 771 et seq.) implementing the National Environmental Policy Act (NEPA), and with the Safe, Accountable, Flexible, Efficient Transportation Equity Act: A Legacy for Users (SAFETEA-LU). This Notice alerts interested parties of the intent to prepare the EIS, provides information on the nature of the proposed transit project, invites participation in the EIS process (including comments on the scope of the EIS proposed in this notice), and announces an upcoming public scoping meeting.

DATES: Comment due date: Written comments on the scope of the EIS, including the preliminary purpose and need for transit improvements in the corridor, the alternatives to be considered, the environmental and community impacts to be evaluated, and any other project-related issues, should be sent to the Lake Oswego to Portland Transit Project, at the address below, by July 18, 2008. Scoping meeting date: A public scoping meeting will be held on April 21, 2008 at 6 p.m. at the location indicated in ADDRESSES below. Oral and written comments may be given at the scoping meeting. An agency scoping meeting was held on September 26, 2007, to collect comments of local, State and federal agencies with an interest in the proposed project.

ADDRESSES: Written comments on the scope of the EIS should be sent to Lake Oswego to Portland Transit Project, Metro, 600 NE Grand Avenue, Portland Oregon 97232. Comments may also be offered at the public scoping meeting. The public scoping meeting will be at: Community Room, Lakewood Center for the Arts, 368 S. State Street, Lake Oswego, OR 97034. This meeting place is accessible to persons with disabilities. Any individual with a disability who requires special assistance, such as a sign language interpreter, may contact Karen Withrow at (503) 797-1932 at least 48 hours before the meeting. A scoping information packet will be available before the meeting on the Metro Web site (www.metro-region.org) or by calling Karen Withrow at (503) 797-1932; copies will also be available at the public scoping meeting.

FOR FURTHER INFORMATION CONTACT: John Witmer, Community Planner, Federal Transit Administration, Region 10, (206) 220-7954.

SUPPLEMENTARY INFORMATION: Scoping: FTA and Metro invite all interested individuals and organizations, public agencies and Native American Tribes to comment on the scope of the EIS, including the project's proposed purpose and need, the proposed alternatives to be analyzed in the EIS and the proposed impacts to be evaluated. Each is described below.

Background: The Lake Oswego to Portland corridor is environmentally, topographically and physically constrained. Future roadway expansion is not anticipated and probably not feasible, and previous planning studies have concluded that a high capacity transit improvement is needed to provide additional corridor capacity. In 1988, a consortium of seven government agencies purchased the Willamette Shore Line right-of-way connecting Lake Oswego to Portland for the purpose of preserving the rail right-of-way for future rail transit service. The 2004 Regional Transportation Plan (RTP) identified the need for a corridor refinement plan for a high capacity transit option for this corridor. Metro led a broad-based alternatives analysis that published its results in June 2007. After public review and comment, the Metro Council adopted Resolution No. 07-3887A, advancing three alternatives into an EIS. Public comment is summarized in a comment report dated January 2008.

Preliminary statement of purpose of and need for the project. The project is needed because mobility and traffic conditions in this corridor are projected to worsen as population and employment projections for Portland and Clackamas County continue to grow, especially on the west side of the Willamette River. The corridor already experiences long traffic queues, poor levels of service and significant capacity constraints at key locations. Travel times in the corridor for traffic and bus transit are unreliable due to congestion on Highway 43.

The purpose of the Portland to Lake Oswego Transit Project is to develop transit that meets future travel demand, supports local and regional land use plans, and garners public acceptance and community support; and which will:

• Increase the mobility and accessibility within the geographically constrained Highway 43 Corridor, connecting from the Portland Central City through the Lake Oswego Town Center.

• Minimize traffic and parking-related impacts to neighborhoods.

• Support and enhance existing neighborhood character in an environmentally sensitive manner.

• Cost-effectively increase corridor and system-wide transit ridership.

• Support transit-oriented economic development in Portland and Lake Oswego.

• Improve transportation access to and connectivity among significant destinations and activity centers.

• Increase transportation choices in the corridor, and access for persons with disabilities.

• Integrate effectively with other transportation modes.

• Anticipate future needs and impacts and not preclude future expansion opportunities.

The project's purpose and need statement will be finalized, using agency and public review and comment.

The environmental process: In accordance with NEPA, SAFETEA-LU Section 6002, and FTA's Section 5309 New Starts requirements, the project's environmental process has been divided into three general phases: Scoping; Alternatives Analysis/Draft EIS and selection of the Locally Preferred Alternative (LPA); and Final EIS.

(1) Scoping: Metro and FTA will use the scoping process to identify participating agencies, and to develop, with the review and comment of participating agencies and the public: (a) The project's purpose and need, (b) the range of alternatives to be studied in the Alternatives Analysis/Draft EIS, and (c) the evaluation methodology, including a determination of the scope of the environmental analysis to be conducted for the EIS. The scoping process will include a public process that will include a variety of public and agency meetings, workshops, open houses, and comment opportunities. Metro will create and implement a comprehensive public involvement program and a public and agency involvement Coordination and Communication Plan. The coordination plan will be posted on the project Web site at the end of the scoping process. The public involvement program will include: outreach to local and county officials and community and civic groups; periodic meetings with various local agencies, organizations, and committees; a public hearing after release of the Draft EIS; and distribution of project newsletters and other information pieces.

(2) Alternatives Analysis/Draft EIS: During this phase, Metro and FTA will analyze and document the environmental benefits, costs, and impacts of the alternatives that were selected for further study as a result of the scoping process. This will build on the 2005-07 Lake Oswego to Portland Transit and Trail Study alternatives analysis to the extent appropriate. Also, the Alternatives Analysis FTA requires for New Starts and Small Starts projects will be completed. Metro and FTA will publish a Draft EIS documenting the alternatives analysis, evaluation of alternatives and the environmental evaluations required by NEPA during this phase. Following a formal public hearing on the Alternatives Analysis/Draft EIS and consideration of the comments received, this phase will conclude with selection of the locally preferred alternative, with public and participating agency input, by the Metro Council; the cities of Lake Oswego and Portland; Clackamas and Multnomah counties; ODOT; and TriMet.

(3) Final EIS: In preparing the Final EIS, further study necessary to respond to comments on the Draft EIS will be conducted, responses to all comments received will be prepared, and feasible and prudent mitigation identified in the Draft EIS for all adverse environmental and community impacts will be further designed and committed to.

Proposed alternatives: Metro expects to analyze a no-build alternative and two build alternatives. Prior to beginning formal EIS analysis, a Johns Landing refinement plan will be undertaken to define alignments for streetcar in the John's Landing area of the City of Portland, using all or parts of the Willamette Shore Line right-of-way, SW Macadam Avenue, Johns Landing Master Plan alignment or combinations thereof. As defined by the Metro Council in Resolution No. 07-3887a adopted December 2007, the build alternatives are as follows: (1) A Streetcar mode, because among transit alternatives studied to date, Streetcar operation in a significant percentage of exclusive right-of-way (the Willamette Shore Line) has the highest forecast ridership, significantly faster travel times between key corridor destinations, and greater reliability. In peak travel periods, the Streetcar would provide faster travel times than autos between downtown and Lake Oswego. Faster travel time and higher reliability is gained through operation of streetcar in a significant percentage of exclusive right of way on the Willamette Shore Line. Streetcar would also have the lowest operating and maintenance costs of any alternative, including the No-Build. Streetcar development could leverage up to 3.3 million square feet of total new transit supportive development in Lake Oswego and Johns Landing. Streetcar would operate as an extension of the existing streetcar line that operates between NW 23rd Avenue and the South Waterfront. (2) Enhanced Bus Mode, because this would avoid the property impacts of the previously studied Bus Rapid Transit alternative while still providing improved service, bus pullouts, and better shelters and lighting at stations. Enhanced bus would operate in mixed traffic, which has implications for travel time, reliability and long-term efficiency of the line. Enhanced bus would serve as the base case for comparison of Streetcar alternatives in the EIS. The EIS will also include a no-build alternative. Metro will consider any additional reasonable transit alternatives identified during scoping that provide similar transportation benefits while reducing or avoiding adverse impacts.

Probable effects: NEPA requires Metro and FTA to evaluate, in a public setting, the significant impacts of the alternatives selected for study in the Draft EIS. Areas of investigation include, but are not limited to, land use, development potential, land acquisition and displacements, historic resources, visual and aesthetic qualities, air quality, noise and vibration, energy use, safety and security, and ecosystems, including threatened and endangered species. The impacts will be evaluated for both the construction period and for the long-term period of operation. Measures to mitigate adverse impacts will be developed. Comments on potentially significant environmental impacts that may be associated with the proposed project and alternatives are welcomed.

In accordance with FTA policy and regulations, Metro and FTA will comply with all Federal environmental laws, regulations, and executive orders applicable to the proposed project during the environmental review process to the maximum extent practicable. These requirements include, but are not limited to, the regulations of the Council on Environmental Quality and FTA implementing NEPA (40 CFR parts 1500-1508, and 23 CFR Part 771), the project-level air quality conformity regulation of the U.S. Environmental Protection Agency (EPA) (40 CFR part 93), the Section 404(b)(1) guidelines of EPA (40 CFR part 230), the regulation implementing Section 106 of the National Historic Preservation Act (36 CFR Part 800), the regulation implementing section 7 of the Endangered Species Act (50 CFR part 402), Section 4(f) of the DOT Act (23 CFR 771.135), and Executive Orders 12898 on environmental justice, 11988 on floodplain management, and 11990 on wetlands.

R.F. Krochalis,
Regional Administrator, Region 10, Federal Transit Administration.

[FR Doc. E8-8189 Filed 4-15-08; 8:45 am]

BILLING CODE 4910-57-P